FEDERAL ELECTION COMMISSION

Sunshine Act Notice

AGENCY: Federal Election Commission.

DATE AND TIME: Thursday, October 4, 2012 at 10:00 a.m.

PLACE: 999 E Street NW., Washington, DC (Ninth Floor).

STATUS: This meeting will be open to the public.

ITEMS TO BE DISCUSSED:

Correction and Approval of the Minutes for the Meeting of September 20, 2012

Draft Advisory Opinion 2012-25: American Future Fund, American Future Fund Political Action, Mr. David McIntosh and David McIntosh for Indiana

Draft Advisory Opinion 2012-33: Pennsylvania Democratic Party

Audit Division Recommendation Memorandum on the Minnesota Democratic-Farmer-Labor Party (MNDFL) (A09-08)

Audit Division Recommendation Memorandum on Rightmarch.com PAC, Inc. (A09-25)

Candidate and Committee Viewer Demonstration

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2012-24232 Filed 9-27-12; 4:15 pm]

BILLING CODE 6715-01-P